INTERNATIONAL TRADE COMMISSION

[USITC SE-23-034]

Sunshine Act Meetings

Agency Holding the Meeting: United States International Trade Commission.

TIME AND DATE: July 27, 2023 at 11:00 a.m.

PLACE: Room 101, 500 E Street SW, Washington, DC 20436, Telephone: (202) 205-2000.

STATUS: Open to the public.

MATTERS TO BE CONSIDERED:

1. Agendas for future meetings: none.

2. Minutes.

3. Ratification List.

4. Commission vote on Inv. Nos. 701-TA-442 and 731-TA-1095-1096 (Third Review) (Lined Paper School Supplies from China and India). The Commission currently is scheduled to complete and file its determination and views on August 4, 2023.

5. Outstanding action jackets: none.

CONTACT PERSON FOR MORE INFORMATION: Sharon Bellamy, Acting Supervisory Hearings and Information Officer, 202-205-2000.

The Commission is holding the meeting under the Government in the Sunshine Act, 5 U.S.C. 552(b). In accordance with Commission policy, subject matter listed above, not disposed of at the scheduled meeting, may be carried over to the agenda of the following meeting. Earlier notification of meeting was not possible.

By order of the Commission.
Issued: July 19, 2023.
Lisa Barton,
Secretary to the Commission.

[FR Doc. 2023-15630 Filed 7-19-23; 4:15 pm]

BILLING CODE 7020-02-P